DEPARTMENT OF DEFENSE

Defense Acquisition Regulations System

48 CFR Chapter 2

Defense Federal Acquisition Regulation Supplement; Appendix A, Armed Services Board of Contract Appeals, Part 2—Rules

CFR Correction

In Title 48 of the Code of Federal Regulations, Chapter 2 (Parts 201 to 299), revised as of October 1, 2010, on page 516, in Appendix A, above the heading “Preface”, the following heading and text is added;

APPENDIX A TO CHAPTER 2—ARMED SERVICES BOARD OF CONTRACT APPEALS

* * * * *

Part 2—Rules

Approved 15 July 1963.

Revised 1 May 1969.

Revised 1 September 1973.

Revised 30 June 1980.

* * * * *

[FR Doc. 2011-5074 Filed 3-3-11; 8:45 am]

BILLING CODE 1505-01-D